ENVIRONMENTAL PROTECTION AGENCY

40 CFR Parts 52 and 81

[PA181-4181a; FRL-7399-4

Approval and Promulgation of Air Quality Implementation Plans; Designation of Areas for Air Quality Planning Purposes; Pennsylvania; Redesignation of the Allegheny County Carbon Monoxide Nonattainment Area and Approval of Miscellaneous Revisions

AGENCY: Environmental Protection Agency (EPA).

ACTION: Direct final rule.

SUMMARY: EPA is taking direct final action to approve a request for Pennsylvania for redesignation of the carbon monoxide (CO) nonattainment area in Allegheny County, to attainment of the CO national ambient air quality standard (NAAQS). EPA is also approving the plan for maintaining the CO standard in Allegheny County, as well as the 1990 base year CO emissions inventory for Allegheny County. Pennsylvania's Redesignation Request and Maintenance Plan was submitted to EPA on August 17, 2001. The 1990 base year inventory was submitted to EPA on November 12, 1992, and revised by the August 17, 2001, submittal. EPA is approving the redesignation request, the maintenance plan and the emissions inventory in accordance with the requirements of the Clean Air Act.

DATES: This rule is effective on January 13, 2003, without further notice, unless EPA receives adverse written comment by December 12, 2002. If EPA receives such comments, it will publish a timely withdrawal of the direct final rule in the Federal Register and inform the public that the rule will not take effect.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, 1301 Constitution Avenue, NW., Room B108, Washington, DC 20460; and Pennsylvania Department of Environmental Protection, Bureau of Air Quality, P.O. Box 8468, 400 Market Street, Harrisburg, Pennsylvania 17105.

FOR FURTHER INFORMATION CONTACT: Catherine L. Magliocchetti, (215) 814-2174, or by e-mail at magliocchetti.catherine@epa.gov.

SUPPLEMENTARY INFORMATION: Throughout this document wherever “we,” “us,” or “our” is used we mean EPA.

Table of Contents

Introduction

I. When Was This Area Originally Designated Nonattainment for Carbon Monoxide?

II. What Are the Geographic Boundaries of the CO Nonattainment Areas?

III. What Are the Criteria for Redesignation?

IV. Has the State Met the Criteria for Redesignation?

A. What Data Shows Attainment of the CO NAAQS in Allegheny County?

B. Fully Approved SIP Under Section 110(i) of the Act?

i. Section 110 Requirements.

ii. Part D Requirements

a. Subpart 1 of part D—Section 172(c) Provisions

b. Subpart 1 of Part D—Section 176 Conformity Provisions

c. Subpart 3 Requirements

C. Improvement in Air Quality Due to Permanent and Enforceable Measures?

D. Fully Approved Maintenance Plan Under Section 175A?

i. What Is the Limited Maintenance Plan Option?

ii. How Has the State Met the Limited Maintenance Plan Requirements?

a. Emissions Inventory

b. Projection of Emissions Over the Maintenance Period

c. Verification of Continued Attainment

d. Contingency Plan

e. Conformity Determinations

iii. Commitment to Submit Subsequent Maintenance Plan Revisions

E. How Does the State Meet the Applicable Requirements of Section 110 and Part D?

V. Final Action

VI. Administrative Requirements

Introduction

Under the Clean Air Act (Act), EPA may redesignate areas to attainment if sufficient data are available to warrant such changes and the area meets the criteria contained in section 107(d)(3) of the Act. This includes full approval of a maintenance plan which meets the requirements of section 175A. On August 17, 2001, the Commonwealth of Pennsylvania submitted a redesignation request and section 175A maintenance plan for the Allegheny County CO nonattainment area. When approved, the section 175A maintenance plan will become a Federally enforceable part of the SIP for these areas.

On November 12, 1992, the Commonwealth of Pennsylvania submitted a 1990 Base Year Emissions Inventory for Allegheny County, including CO data. The August 17, 2001, submittal revised some of the figures in the 1990 Base Year Inventory.

The following is a detailed analysis of the Redesignation Request and section 175A Maintenance Plan SIP submittal.

I. When Was This Area Originally Designated Nonattainment for Carbon Monoxide?

EPA originally designated part of Allegheny County as a CO nonattainment area under section 107 of the Act on September 12, 1978 (43 FR 40513). The area defined as CO nonattainment included high traffic density areas within the Central Business District (CBD) and certain other high traffic density areas. In 1990, Congress amended the act (1990 Act) and added a provision which authorizes EPA to classify nonattainment areas according to the degree of severity of the nonattainment problem. In 1991, EPA designated and classified all areas. The CBD of the city of Pittsburgh in Allegheny County was designated as nonattainment and not classified for CO (40 CFR 81.339). The area was not classified because at the time of the designation and classification in 1991, air quality monitoring data recorded in the area did not show violations of the CO NAAQS. However, the Commonwealth had not completed a redesignation request showing that it had complied with all of the requirements of section 107 of the Act. As a result, EPA designated the area as nonattainment, but did not establish a nonattainment classification. The preamble to the Federal Register document for the 1991 designation contains more details on this action (56 FR 56694). Since the EPA's 1991 designation, monitors in the area have not recorded a violation of the CO NAAQS. As a result, the area is eligible for redesignation to attainment consistent with the 1990 Act. On August 17, 2001, Pennsylvania submitted a SIP revision to the EPA, containing a redesignation request, maintenance plan, and updates to the CO emissions inventory. The Commonwealth held public hearings on the SIP revision on March 16, 2001. Public comments were not received on this proposed redesignation at the state level.

II. What Are the Geographic Boundaries of the CO Nonattainment Areas?

The CO nonattainment area in the Allegheny County was defined under 43 FR 40517 as “the high traffic density areas within the Central Business District and certain other high traffic density areas.” (In its SIP revision, the Commonwealth notes that “the CBD is generally the downtown triangle bounded by the Allegheny River, the Monongahela River and I-579.” Adding that the phrase “other high traffic density areas,” “describes what is considered the Oakland neighborhood of Pittsburgh.”).

III. What Are the Criteria for Redesignation?

The 1990 Act revised section 107(d)(3)(E), which specifies five requirements that an area must meet to be redesignated from nonattainment to attainment.

These requirements are:

1. The area has attained the applicable NAAQS;

2. The area has a fully approved SIP under section 110(k) of the Act;

3. The air quality improvement is permanent and enforceable;

4. The area has a fully approved maintenance plan pursuant to section 175A of the Act; and

5. The area has met all relevant requirements under sect9ion 110 and part D of the Act.

IV. Has the State Met the Criteria for Redesignation?

The EPA has reviewed the Pennsylvania redesignation request for the Allegheny County area and finds that the requests meets the five requirements of section 107(d)(3)(E).

A. What Data Shows Attainment of the CO NAAQS in Allegheny County?

Pennsylvania has quality-assured CO ambient air monitoring data showing that Allegheny County has met the CO NAAQS. The request is based upon an analysis of quality-assured CO air monitoring data that is relevant to the maintenance plan and the redesignation request. To attain the CO NAAQS, an area must have complete quality-assured CO air monitoring data showing no more than one exceedance of the standard per year over at least three consecutive years.

Between 1988 and 1999, the Allegheny County Health Department continuously operated two monitors in the county, and one additional monitor from 1997. The design value for the latest two years of quality assured data (1998 and 1999) is 3.9 ppm, measured at the Forbes Avenue and Grant Street monitoring site in 1999. Air quality data for the three CO monitoring sites shows that from 1988 through 1999, there were no violations of the 8-hour CO NAAQS in the nonattainment area, the last violation have occurred in 1987. The 1-hour CO standard is also being met at these monitoring sites, the last violation having occurred in 1980. Additional historic data are included in the Commonwealth's request. Pennsylvania's request is based on an analysis of quality-assured CO air quality data. This data was compiled in an EPA-approved, quality assured, National Air Monitoring System monitoring network. As a result, the area meets the first statutory criterion for redesignation to attainment of the CO NAAQS.

The Commonwealth has committed to continue monitoring in these areas in accordance with 40 CFR part 58. As discussed further below, the design value for Allegheny County, 3.9 ppm, meets the test for the limited maintenance plan option since the design values are well below the 7.8 ppm level.

Since the area's 1990 design value for CO was 8.0 ppm, supplemental air quality modeling is not needed to support this request.¹

¹ CO nonattainment areas with design value of 12.7 ppm or lower when the 1990 Act was passed, are not required to model attainment of the area on order to redesignate. (September 4, 1992, memorandum from John Calcagni, “Procedures for Processing Requests to Redesignate Areas to Attainment.”)

B. Fully Approved SIP Under Section 110(k) of the Act?

i. Section 110 Requirements

Pennsylvania CO SIP was fully approved by EPA as meeting all the requirements of section 110(a)(2)(I) of the Act, including the requirements of part D (relating to nonattainment), which were due prior to the date of Pennsylvania's redesignation request. The 1982 CO SIP, except for the Inspection and Maintenance (I/M) portion was fully approved by EPA on February 26, 1985, 40 CFR 52.2020(c)(63), (50 FR 772). The I/M portion of the SIP was approved by EPA on April 8, 1987, at 40 CFR 52.2020(c)(66), (52 FR 11259), and revised to an enhanced program by EPA's approval on June 17, 1999, at 40 CFR 52.2020(c)(139), (64 FR 32411). The Clean Air Act Amendments of 1990 and part D also added emission reduction requirements for CO areas which were classified as moderate and serious nonattainment. Areas such as the portion of Allegheny County classified as nonattainment, not classified, did not have additional emission reduction requirements.

ii. Part D Requirements

Part D contains general provisions that apply to all nonattainment plans and certain sections that apply to specific pollutants. Before EPA may redesignate the Allegheny County CO nonattainment areas to attainment, the SIP must have fulfilled the applicable requirements of part D. Under part D, an area's classification indicates the requirements to which it is subject. Subpart 1 to part D sets forth the basic nonattainment requirements applicable to all nonattainment areas, classified as well as not classified. EPA designated the Allegheny County areas as a “not classified” CO nonattainment area on November 15, 1990, codified at 40 CFR 81.339. Therefore, to be redesignated to attainment, the Commonwealth must meet the applicable requirements of subpart 1 of part D—specifically sections 172(c) and 176. The subpart 3 requirements of part D do not apply to unclassified areas.

a. Subpart 1 of Part D—Section 172(c) Provisions

Subpart 1 of part D addresses nonattainment areas in general. Section 172(c) describes the nonattainment plan provisions specifically. The requirements of section 172(c)(1) are met by the CO SIP, approval dates as given above. The Federal requirements for new source review (NSR) in nonattainment area are contained in section 172(c)(5). EPA guidance indicates the requirements of part D NSR program will be replaced by the prevention of significant deterioration (PSD) program when an area has reached attainment and been redesignated, provided there are assurances that PSD will become fully effective immediately upon redesignation. To that end, Allegheny County has been delegated the Federal PSD program and has adopted the PSD requirements promulgated in 40 CFR 52.21, incorporating them by reference in its regulations as provided in article XXI, section 2102.07.

The remaining requirements under section 172(c), except for Conformity provisions discussed below, are not applicable, since attainment has already been measured, or will be satisfied as part of the maintenance plan included as part of the redesignation request.

b. Subpart 1 of Part D—Section 176 Conformity Provisions

Part D, section 176(c)(4)(C) requires each state to have submitted to EPA by November 15, 1992, a SIP revision establishing a conformity process. This date was extended to November 25, 1994, as EPA did not promulgate its conformity rule until November 15, 1993. The Commonwealth submitted its SIP revision on November 21, 1994, and EPA found it administratively and technically complete. However, due to continuing amendments to EPA rulemaking on state-specific revisions was deferred. In 1998, the Commonwealth submitted a updated Conformity SIP revision, however, EPA has placed rulemaking for this plan on hold, pending the results of legal action related to the new ozone and particulate matter standards. Since the Commonwealth has fulfilled its requirement to submit a Conformity SIP revision, and the delay on rulemaking is a result of EPA policy, EPA will not hold up approval of the CO redesignation due to lack of an approved Conformity SIP revision.

c. Subpart 3 Requirements

Section 1871 of the Act, “Plan Submission and Requirements,” which is a part of subpart 3, Additional Provisions for CO Nonattainment Areas, does not need to be satisfied for this redesignation request. Section 187 requirements do not apply to areas “not classified” for CO.

C. Improvement in Air Quality Due to Permanent and Enforceable Measures?

In order to redesignate an area, EPA must determine that the improvement in air quality is due to permanent and enforceable reductions in emissions resulting from implementation of the applicable implementation plan and applicable Federal air pollutant control regulations and other permanent and enforceable reductions.

The Commonwealth's 1982 CO SIP for Southwestern PA, approved by EPA in 1985, identified Federal, state and local measures to bring the area into attainment. These measures are: the Federal Motor Vehicle Control Program, the Commonwealth's I/M program (since revised to an enhanced program), and other transportation control measures.

As discussed above, Allegheny County has measured attainment of the CO NAAQS since 1988, indicative of improvements due to permanent and enforceable measures contained in the 1982 CO SIP.

The Commonwealth has demonstrated that actual enforceable emission reductions are responsible for the air quality improvement and that the CO emissions in the base year are not artificially low due to local economic downturn. EPA finds that the combination of certain existing EPA-approved SIP and Federal measures contribute to the permanence and enforceability or reduction in ambient CO levels that have allowed the area to attain the NAAQS.

D. Fully Approved Maintenance Plan Under Section 175A?

Section 175A of the Act sets forth the elements of a maintenance plan for areas seeking redesignation from nonattainment to attainment. The plan must demonstrate continued attainment of the applicable NAAQS for at least 10 years after the EPA approves a redesignation to attainment. Eight years after the redesignation, that State must submit a revised maintenance plan which demonstrates attainment for the 10 years following the initial 10-year period. To address potential future NAAQS violations, the maintenance plan must contain contingency measures, with a schedule for implementation adequate to assure prompt correction of any air quality problems.

Under section 175A(d) contingency provisions must include a requirement that the State will implement all control measures that were in the SIP prior to redesignation as an attainment area. In this section, EPA is approving the Allegheny County maintenance plan because EPA finds that submittal meets the requirements of section 175A. The details of the maintenance plan requirements and how the submittal meets these requirements are detailed below.

i. What Is the Limited Maintenance Plan Option?

The EPA issued guidance on October 6, 1995, titled “Limited Maintenance Plan Option for Nonclassifiable CO Nonattainment Areas.” This option is only available to CO nonattainment areas with design values at or below 7.65 ppm (85 percent of exceedance levels of the CO ambient air quality standard). The limited maintenance plan option allows areas that are well below the NAAQS ambient air quality standard to submit a less rigorous maintenance plan than was formerly required. The design value for CO in Allegheny County for the years 1998 and 1999 was 3.9 ppm, qualifying the area for use of a limited maintenance plan option.

The limited maintenance plan must meet certain core requirements. These requirements are:

a. The State must submit an attainment emissions inventory based on actual “typical winter day” emissions of CO in the monitored attainment years.

b. The maintenance demonstration does not need to project emissions over the maintenance period. The design value criteria are expected to provided adequate assurance of maintenance over the initial 10-year period.

c. The State must continue operating an approved air quality monitoring network.

d. The State must have a contingency plan and specific indicators or triggers for implementation of the contingency plan.

e. The conformity determination under a limited maintenance plan can consider the emissions budget as essentially not constraining for the length of the initial maintenance plan.

ii. How Has the State Met the Limited Maintenance Plan Requirements?

a. Emissions Inventory

EPA is approving the 1990 Base Year CO Emissions Inventory for CO, submitted to EPA in November 1992, and approving the “typical winter day” emissions for highway on-road sources in Allegheny County submitted to EPA on August 17, 2001, along with the redesignation request. The 1990 Base Year Inventory submittal contains the detailed inventory data and summaries by source category, prepared in accordance with EPA guidance. Table 1 summarizes the 1990 Base Year Inventory for the seven county Pittsburgh area Metropolitan Statistical Area.

Table 1.—CO 1990 Base Year Emissions in Tons per Day
County | Point | Area | Off-road | Highway | Total
Allegheny | 438 | 7 | 201 | 542 | 1188
Armstrong | 6 | 4 | 10 | 24 | 44
Beaver | 20 | 3 | 24 | 71 | 118
Butler | 230 | 9 | 26 | 69 | 334
Fayette | 0 | 8 | 17 | 46 | 71
Washington | 5 | 9 | 30 | 108 | 152
Westmoreland | 26 | 2 | 68 | 170 | 266
MSA—Total | 725 | 42 | 376 | 1030 | 2173

For purposes of demonstrating compliance with an attainment inventory, typical of a winter day (when CO concentrations are of concern), the Commonwealth prepared and submitted an updated CO emissions inventory for the highway source category in Allegheny County. The 1990 CO emissions inventory for highway, or on-road sources, was updated by Allegheny County and the Commonwealth for the CO redesignation request, using winter-time inputs in MOBILE 5b. This inventory identifies the level of emissions in the area sufficient to attain the NAAQS, since the 1990 design value was 8.1 ppm. The 1999 emissions inventory reflects the impact of the Federal Motor Vehicle Control Program Tier 1 standards, and Pennsylvania's Enhanced Inspection and Maintenance program. The Commonwealth and Allegheny County point out in their submittal that while CO emissions are also a result of point, area, and off-road sources, their submittal's attainment inventory only includes emissions from highway, on-road sources, since motor vehicles are the primary source of CO emissions in the nonattainment area, the Pittsburgh Central Business District. EPA concurs with this assessment of the inventory needs and is approving the typical winter day CO emissions inventory for highway sources as detailed in Table 2.

Table 2.—Typical Winter Day CO Emissions in Tons per Day
Allegheny County inventory year | Highway
1990 | 1219
1999 | 625

As previously stated, Allegheny County has adequately demonstrated continued attainment of the CO NAAQS.

b. Projection of Emissions Over the Maintenance Period

In accordance with the limited maintenance plan option, Allegheny County is not required to project emissions over the maintenance period.

c. Verification of Continued Attainment

In the submittal the Commonwealth commits to continue to operate and maintain the network of ambient CO monitoring stations in accordance with provisions of 40 CFR parts 53 and 58 to demonstrate ongoing compliance with the CO NAAQS. The submittal presents the tracking plan for the maintenance period which consists of continued CO monitoring. The Commonwealth will continue to monitor CO levels in the Allegheny County Central Business District to demonstrate ongoing compliance with the CO NAAQS.

d. Contingency Plan

As required by section 175A of the Act, Pennsylvania has provided contingency measures with a schedule for implementation if a future CO air quality problem occurs. Contingency measures in the plan include restrictions on vehicle idling in the central business district during winter months (November through February), to be implemented within 12-15 months after a recorded violation of the CO standard.

e. Conformity Determinations

The limited maintenance plan option allows the Commonwealth to consider the emissions budget as essentially not constraining for the length of the initial maintenance plan.

iii. Commitment To Submit Subsequent Maintenance Plan Revisions

A new maintenance plan must be submitted to EPA within eight years of the redesignation of the nonattainment area, as required by section 175(A)(b). This subsequent maintenance plan must constitute a SIP revision and provide for the maintenance of the CO NAAQS for a period of 10 years after the expiration of the initial 10 year maintenance period.

E. How Does the State Meet the Applicable Requirements of Section 110 and Part D?

As noted above, because the area is a “not classified” nonattainment area, the 1990 Act did not establish additional requirements under subpart 3. Prior to the 1990 Amendments, EPA had fully approved the State's CO SIP. Since the area is not subject to the subpart 3 requirements, no additional requirements exist under section 110(k) which the State must address prior to redesignation.

V. Final Action

EPA is approving, the Allegheny County redesignation request for CO because the County and the Commonwealth have complied with the requirements of section 107(d)(3)(E) of the Act. In addition, EPA is approving the Allegheny County CO maintenance plans as a SIP revision meeting the requirements of section 175A.

EPA is publishing this action without prior proposal because EPA views this as a noncontroversial revision and anticipates no adverse comments. However, in the “Proposed Rules” section of today's Federal Register, EPA is publishing a separate document that will serve as the proposal to approve the SIP revision if adverse comments are filed. This rule will be effective on January 13, 2003, without further notice unless EPA receives adverse comment. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

VI. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCSs. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by January 13, 2003. Filing a petition for reconsideration by the Administrator of this final rule does not affect the finality of this rule for the purposes of judicial review nor does it extend the time within which a petition for judicial review may be filed, and shall not postpone the effectiveness of such rule or action. This action, the redesignation of the Allegheny County CO nonattainment area to attainment and approval of the area's maintenance plan and the 1990 base year CO emissions inventory may not be challenged later in proceedings to enforce its requirements. (See section 307(b)(2).)

List of Subjects

40 CFR Part 52

Environmental protection, Air pollution control, Carbon monoxide, Incorporation by reference, Intergovernmental relations, Reporting and Recordkeeping requirements.

40 CFR Part 81

Air Pollution control, National parks, Wilderness areas.

Dated: October 17, 2002.
Thomas C. Voltaggio,
Regional Administrator, Region III.

40 CFR parts 52 and 81 are amended as follows:

PART 52—[AMENDED]

1. The authority citation for part 52 continues to read as follows:

Authority: 42 U.S.C. 7401 et seq.

Subpart NN-Pennsylvania

2. Section 52.2020 is amended by adding paragraph (c)(183) to read as follows:

§ 52.2020 Identification of plan.

* * * * *

(c) * * *

(183) The CO redesignation and maintenance plan for Southwestern Pennsylvania submitted by the Pennsylvania Department of Environmental Protection on August 17, 2001, as part of the Pennsylvania SIP. The 1990 base year CO emissions inventory was submitted by the Pennsylvania Department of Environmental Protection on November 12, 1992.

(i) Incorporation by reference.

(A) Letter of August 17, 2001, from the Pennsylvania Department of Environmental Protection transmitting a redesignation request and maintenance plan for the CO monoxide nonattainment area in Southwestern Pennsylvania.

(B) Maintenance Plan for the Southwestern Pennsylvania Carbon Monoxide nonattainment area, effective July 12, 2001.

(ii) Additional Material.—Remainder of the August 17, 2001 submittal pertaining to the revisions listed in paragraph (c)(183)(i) of this section.

* * * * *

3. Section 52.2036 is amended by adding paragraph (n) to read as follows:

§ 52.2036 1990 base year emissions inventory.

* * * * *

(n) EPA approves as a revision to the Pennsylvania SIP the 1990 base year CO emissions inventory for Southwestern Pennsylvania, including Allegheny, Armstrong, Beaver, Butler, Fayette, Washington and Westmoreland counties, submitted by the Secretary of the Pennsylvania Department of Environmental Protection on November 12, 1992, and as revised on August 17, 2001. This submittal consists of the 1990 base year inventory for point, area, off-road, and highway emissions for these counties, for the pollutant CO.

PART 81—[AMENDED]

Subpart C—Section 107 Attainment Status Designations

1. The authority citation for part 81 continues to read as follows:

Authority: 42 U.S.C. 7401 et seq.

2. In § 81.339, the table for “Pennsylvania—Carbon Monoxide” is amended by revising the entry for the Pittsburgh Area to read as follows:

§ 81.339 Pennsylvania.

* * * * *

Pennsylvania—Carbon Monoxide
Designated area | Designation: Date¹ | Designation: Type | Classification: Date¹ | Classification: Type
* * * * * * *
Pittsburgh Area:
Allegheny County (part) high traffic density areas within the Central Business District and certain other high traffic density areas | 1/13/02 | Attainment.
* * * * * * *
¹ This date is November 15, 1990, unless otherwise noted.

* * * * *

[FR Doc. 02-28495 Filed 11-8-02; 8:45 am]

BILLING CODE 6560-50-M